DEPARTMENT OF TRANSPORTATION

Federal Railroad Administration

[Docket No. FRA 2010-0005-N-17]

Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following information collection activities that were previously approved by OMB. Before submitting these information collection requirements for clearance by the Office of Management and Budget (OMB), FRA is soliciting public comment on specific aspects of the activities identified below.

DATES: Comments must be received no later than September 13, 2010.

ADDRESSES: Submit written comments on any or all of the following proposed activities by mail to either: Mr. Robert Brogan, Office of Safety, RRS-21, Federal Railroad Administration, 1200 New Jersey Ave., SE., Mail Stop 17, Washington, DC 20590, or Ms. Kimberly Toone, Office of Information Technology, RAD-20, Federal Railroad Administration, 1200 New Jersey Ave., SE., Mail Stop 35, Washington, DC 20590. Commenters requesting FRA to acknowledge receipt of their respective comments must include a self-addressed stamped postcard stating, “Comments on OMB control number 2130-____.” Alternatively, comments may be transmitted via facsimile to (202) 493-6216 or (202) 493-6497, or via e-mail to Mr. Brogan at Robert.Brogan@dot.gov, or to Ms. Toone at Kimberly.Toone@dot.gov. Please refer to the assigned OMB control number and the title of the information collection in any correspondence submitted. FRA will summarize comments received in response to this notice in a subsequent notice and include them in its information collection submission to OMB for approval.

FOR FURTHER INFORMATION CONTACT: Mr. Robert Brogan, Office of Safety, RRS-21, Federal Railroad Administration, 1200 New Jersey Ave., SE., Mail Stop 17, Washington, DC 20590 (telephone: (202) 493-6292) or Ms. Kimberly Toone, Office of Information Technology, RAD-20, Federal Railroad Administration, 1200 New Jersey Ave., SE., Mail Stop 35, Washington, DC 20590 (telephone: (202) 493-6132). (These telephone numbers are not toll-free.)

SUPPLEMENTARY INFORMATION: The Paperwork Reduction Act of 1995 (PRA), Public Law 104-13, section 2, 109 Stat. 163 (1995) (codified as revised at 44 U.S.C. 3501-3520), and its implementing regulations, 5 CFR Part 1320, require Federal agencies to provide 60-days notice to the public for comment on information collection activities before seeking approval of such activities by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the information collection activities that FRA will submit for renewed clearance by OMB as required under the PRA:

Title: Causal Analysis and Countermeasures to Reduce Rail-related Suicides.

OMB Control Number: 2130-0572.

Abstract: Pedestrian trespassing on railroad property resulting in serious injury or death is one of the two most serious safety problems (the second being grade crossing collisions) facing the railroad industry and its regulators not only in the United States but also in other countries. It is widely believed in this country that the reported prevalence and incidence of railway suicide vastly under-represents the nature and extent of the problem. There is no central reporting system within the railroad industry or the suicide prevention field that provides verifiable information about how many trespass deaths are accidental vs. intentional. Therefore, there are no verifiable measures of the extent of rail-related suicides in the United States.

While railroad companies must report trespass incidents resulting in serious injury or death to the U.S. Federal Railroad Administration (FRA), injuries or deaths that are ruled by a medical examiner or coroner to be intentional are not reported. Preliminary figures from 2006 indicate there were approximately 500 deaths and 360 injuries reported to the FRA—an increase of 100 incidents over the previous year—but suicides are not represented in these numbers. Unverifiable estimates from a number of sources range from 150 to more than 300 suicides per year on the U.S. railways.

Like any other incident on the rail system, a suicide on the tracks results in equipment and facility damage, delays to train schedules, and trauma to railroad personnel involved in the incidents. As a result, FRA last year awarded a grant for the first phase of a 5-year project to reduce suicides on the rail system to the Railroad Research Foundation (part of the Association of American Railroads) and its subcontractor, the American Association of Suicidology (AAS).

In the course of five years, the research project's goals include:

• A prevalence assessment to determine verifiable numbers of suicides on the rail system,

• Development of a standardized reporting tool for industry use,

• A causal analysis and root cause analysis of suicide incidents that occur during the grant cycle, and

• Design and implementation of suicide prevention measures for the nation's rail system to reduce suicide injuries and deaths.

This request to the Office of Management and Budget is for re-approval in order to complete Phase II of the project, the causal analysis. In order to understand as much as possible about people who intend to die by placing themselves in the path of a train, and therefore to design prevention strategies, AAS has been conducting 60 psychological autopsies over the course of two years on people who die by rail-related suicide.

Psychological autopsy is a recognized and accepted method for obtaining information about physical, emotional and circumstantial contributors to a person's death. The 60 psychological autopsies for the FRA project involve interviews with informants to these incidents including family members and friends, employers and co-workers, and rail personnel involved in the incidents.

After conducting a root cause analysis of this data, AAS will then work with the industry to design, pilot test and implement effective countermeasures with the goal of reducing deaths, injuries and psychological trauma.

Form Number(s): FRA F 6180.125A; FRA F 6180.125B.

Affected Public: Individuals.

Respondent Universe: 280 Railroad Personnel/Members of the Public/Affected Families and Friends.

Frequency of Submission: On occasion.

Reporting Burden:

Collection instrument | Respondent universe | Total annual responses | Average time per response | Total annual burden hours
Form FRA F 6180.125A | 280 Individuals | 5,600 responses/ forms | 5 minutes | 467 hours.
Form FRA F 6180.125B | 280 Individuals | 35 forms | 2 hours | 70 hours.

Total Responses: 5,670.

Estimated Total Annual Burden: 537 hours.

Status: Re-Approval under Regular Clearance Procedures.

Title: Confidential Close Call Reporting System Evaluation-Related Interview Data Collection.

OMB Control Number: 2130-0574.

Abstract: In the U.S. railroad industry, injury rates have been declining over the last 25 years. Indeed, the industry incident rate fell from a high of 12.1 incidents per 100 workers per year in 1978 to 3.66 in 1996. As the number of incidents has decreased, the mix of causes has also changed toward a higher proportion of incidents that can be attributed to human and organizational factors. This combination of trends—decrease in overall rates but increasing proportion of human factors-related incidents—has left safety managers with a need to shift tactics in reducing injuries to even lower rates than they are now.

In recognition of the need for new approaches to improving safety, FRA has instituted the Confidential Close Call Reporting System (C³RS). The operating assumption behind C³RS is that by assuring confidentiality, employees will report events which, if dealt with, will decrease the likelihood of accidents. C³RS, therefore, has both a confidential reporting component, and a problem analysis/solution component. C³RS is expected to affect safety in two ways. First, it will lead to problem solving concerning specific safety conditions. Second, it will engender an organizational culture and climate that supports greater awareness of safety and a greater cooperative willingness to improve safety.

If C³RS works as intended, it could have an important impact on improving safety and safety culture in the railroad industry. While C³RS has been developed and implemented with the participation of FRA, railroad labor, and railroad management, there are legitimate questions about whether it is being implemented in the most beneficial way, and whether it will have its intended effect. Further, even if C³RS is successful, it will be necessary to know if it is successful enough to implement on a wide scale. To address these important questions, FRA is implementing a formative evaluation to guide program development, a summative evaluation to assess impact, and a sustainability evaluation to determine how C³RS can continue after the test period is over. The evaluation is needed to provide FRA with guidance as to how it can improve the program, and how it might be scaled up throughout the railroad industry.

Program evaluation is an inherently data driven activity. Its basic tenet is that as change is implemented, data can be collected to track the course and consequences of the change. Because of the setting in which C³RS is being implemented, that data must come from the railroad employees (labor and management) who may be affected. Critical data include beliefs about safety and issues related to safety, and opinions/observations about the operation of C³RS.

The current study is a five-year demonstration project to improve rail safety, and is designed to identify safety issues and propose corrective action based on voluntary reports of close calls submitted to the Bureau of Transportation Statistics. Because of the innovative nature of this program, FRA is implementing an evaluation to determine whether the program is succeeding, how it can be improved and, if successful, what is needed to spread the program throughout the railroad industry. Interviews to evaluate the close call reporting system are being conducted with two groups: (1) Key stakeholders to the process (e.g., FRA officials, industry labor, and carrier management within participating railroads); and (2) Employees in participating railroads who are eligible to submit close call reports to the Confidential Close Call Reporting System. Different questions are addressed to each of these two groups. Interviews are semi-structured, with follow-up questions asked as appropriate depending on the respondent's initial answer.

The confidentiality of the interview data is protected by the Privacy Act of 1974. FRA fully complies with all laws pertaining to confidentiality, including the Privacy Act. Thus, information obtained by or acquired by FRA's contractor, the Volpe Center, from key stakeholders and railroad employees will be used strictly for evaluation purposes. None of the information that might be identifying will be disseminated or disclosed in any way. In addition, the participating railroad sites involved will require Volpe to establish a non-disclosure agreement that prohibits disclosure of company confidential information without the carrier's authorization. Also, the data is protected under the Department of Transportation regulation Title 49 CFR Part 9, which is in part concerned with the Department involvement in proceedings between private litigants. According to this statute, if information is subpoenaed, Volpe and Volpe contractors cannot “provide testimony or produce any material contained in the files of the Department, or disclose any information or produce any material acquired as part of the performance of that employee's official duties or because of that employee's official duty status” unless authorized by agency counsel after determining that, in legal proceedings between private litigants, such testimony would be in the best interests of the Department or that of the United States Government if disclosed. Finally, the name of those interviewed will not be requested.

Form Number(s): FRA F 6180.126A; FRA F 6180.126B.

Affected Public: Railroad Employees and Key Non-railroad Stakeholders.

Respondent Universe: 300 Select Railroad Employees/Non-railroad Stakeholders.

Frequency of Submission: On occasion.

Collection instrument | Respondent universe | Total annual responses | Average time per response | Total annual burden hours
Form FRA F 6180.126A | 300 Individuals | 133.5 forms | 60 minutes | 133.5 hours.
Form FRA F 6180.126B | 300 Individuals | 133.5 forms | 60 minutes | 133.5 hours.

Total Responses: 267.

Estimated Annual Burden: 267 hours.

Status: Re-Approval under Regular Clearance Procedures.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on July 7, 2010.
Kimberly Coronel,
Director, Office of Financial Management, Federal Railroad Administration.

[FR Doc. 2010-17017 Filed 7-12-10; 8:45 am]

BILLING CODE 4910-06-P